DEPARTMENT OF HOMELAND SECURITY

Federal Emergency Management Agency

44 CFR Part 65

[Docket No. FEMA-P-7640]

Changes in Flood Elevation Determinations

AGENCY: Federal Emergency Management Agency, Emergency Preparedness and Response Directorate, Department of Homeland Security.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Map(s) in effect prior to this determination for the listed communities.

From the date of the second publication of these changes in a newspaper of local circulation, any person has ninety (90) days in which to request through the community that the Mitigation Division Director of the Emergency Preparedness and Response Directorate reconsider the changes. The modified BFEs may be changed during the 90-day period.

ADDRESSES: The modified BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to Section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

The changes in BFEs are in accordance with 44 CFR 65.4.

National Environmental Policy Act

This rule is categorically excluded from the requirements of 44 CFR part 10, Environmental Consideration. No environmental impact assessment has been prepared.

Regulatory Flexibility Act

The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification

This interim rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and record keeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Arkansas: Washington (Case No.: 04-06-1740P) | City of Fayetteville | Nov. 23, 2004, Nov. 30, 2004, Northwest Arkansas Times | The Honorable Dan Coody, Mayor, City of Fayetteville, 113 W. Mountain, Fayetteville, AR 72701 | Nov. 12, 2004 | 050216
Illinois:
McClean (Case No.: 04-05-0891P) | City of Bloomington | Nov. 12, 2004, Nov. 19, 2004, The Pantagraph | The Honorable Judy Markowitz, Mayor, City of Bloomington, 109 East Olive Street, Suite 200, Bloomington, IL 61701 | Feb. 18, 2005 | 170490
Cook (Case No.: 03-05-5180P) | Unincorporated Areas | Oct. 21, 2004, Oct. 28, 2004, Orland Township Messenger | The Honorable John H. Stroger, Jr., President, Cook County, Board of Commissioners, 69 West Washington, Suite 2830, Chicago, IL 60602-3169 | Jan. 27, 2004 | 170054
Cook (Case No.: 04-05-4062P) | Unincorporated Areas | Oct. 13, 2004, Oct. 20, 2004, The Chicago Tribune | The Honorable John H. Stroger, Jr., President, Cook County, Board of Commissioners, 118 North Clark Street, Room 537, Chicago, IL 60602 | Oct. 1, 2004 | 170054
Kane (Case No.: 04-05-2895P) | Unincorporated Areas | Nov. 10, 2004, Nov. 17, 2004, Kane County Chronicle | The Honorable Michael McCoy Chairman, Kane County Board, Kane County Government Center, 719 South Batavia Avenue, Bldg. A, Geneva, IL 60134 | Feb. 16, 2005 | 170896
Kane (Case No.: 04-05-2895P) | Unincorporated Areas | Nov. 10, 2004, Nov. 17, 2004, Kane County Chronicle | The Honorable Michael McCoy, Chairman, Kane County Board, Kane County Government Center, 719 South Batavia Avenue, Bldg. A, Geneva, IL 60134 | Feb. 16, 2005 | 170896
Kane and Kendall (Case No.: 04-05-0087P) | Village of Montgomery | Nov. 17, 2004, Nov. 24, 2004, Aurora Beacon News | The Honorable Marilyn Michelini, President, Village of Montgomery, 1300 South Broadway, Montgomery, IL 60538 | Nov. 8, 2004 | 170328
Cook (Case No.: 03-05-5180P) | Village of Orland Park | Oct. 21, 2004, Oct. 28, 2004, Orland Township Messenger | The Honorable Daniel McLaughlin, Mayor, Village of Orland Park, 14700 S. Ravinia Avenue, Orland Park, IL 60462 | Jan. 27, 2004 | 170140
Will County (Case No.: 04-05-3541P) | Unincorporated Areas | Nov. 12, 2004, Nov. 19, 2004, The Herald News | The Honorable Joseph L. Mikan, Will County Executive, Will County Office Building, 302 North Chicago Street, Joliet, IL 60432 | Oct. 19, 2004 | 170695
Indiana: Marion (Case No.: 04-05-0895P) | City of Indianapolis | Nov. 12, 2004, Nov. 19, 2004, The Indianapolis Star | The Honorable Bart Peterson, Mayor, City of Indianapolis, 2501 City-County Building, 200 E. Washington Street, Indianapolis, IN 46204 | Feb. 18, 2005 | 180159
Iowa: Johnson (Case No.: 04-07-047P) | City of North Liberty | Oct. 20, 2004, Oct. 27, 2004, North Liberty Leader | The Honorable Clair Mekota, Mayor, City of North Liberty, 35 Vixen Lane, North Liberty, IA 52317 | Oct. 5, 2004 | 190630
New Mexico: Torrance (Case No.: 04-06-674P) | City of Moriarty | Oct. 14, 2004, Oct. 21, 2004, Mountain View Telegraph | The Honorable Adan M. Encinias, Mayor, City of Moriarty, P.O. Drawer 130, Moriarty, NM 87035 | Jan. 20, 2005 | 350083
Ohio:
Greene (Case No.: 03-05-3977P) | City of Beaver Creek | Oct. 22, 2004, Oct. 29, 2004, Beavercreek News-Current | The Honorable Robert Glaser, Mayor, City of Beaver Creek, 1368 Research Park Drive, Beavercreek, OH 45432 | Jan. 28, 2005 | 390876
Butler (Case No.: 03-05-5177P) | Unincorporated Areas | Oct. 21, 2004 Oct. 28, 2004, The Journal-News | The Honorable Charles R. Furmon, President, Butler County, Board of Commissioners, 315 High Street, 4th Floor, Government Services Center, Hamilton, OH 45011 | Jan. 27, 2004 | 390037
Greene (Case No.: 03-05-3977P) | Unincorporated Areas | Oct. 22, 2004, Oct. 29, 2004, Xenia Daily Gazette | The Honorable Jeff Gilbert, Chairman, Green County Board, County Courthouse, 519 North Main Street, Carrollton, OH 62016 | Jan. 28, 2005 | 390193
Summit (Case No.: 04-05-0770P) | Village of Hudson | Oct. 20, 2004, Oct. 27, 2004, Hudson Hub-Times | The Honorable William A. Currin, Mayor, Village of Hudson, 27 East Main Street, Hudson, OH 44236-3099 | Jan. 26, 2005 | 390660
Lucas (Case No.: 04-05-4066P) | Unincorporated Areas | Oct. 19, 2004, Oct. 26, 2004, Farmland News | The Honorable Harry Barlos, President, Lucas County, Board of Commissioners, One Government Center, Suite 800, Toledo, OH 43604 | Sept. 30, 2004 | 390539
Oklahoma: Cleveland (Case No.: 04-06-1915P) | City of Moore | Nov. 23, 2004, Nov. 30, 2004, The Moore American | The Honorable Glenn Lewis, Mayor, City of Moore, 301 North Broadway, Moore, OK 73160 | Nov. 9, 2004 | 400044
Texas:
Tarrant (Case No.: 04-06-1903P) | City of Arlington | Nov. 12, 2004, Nov. 19, 2004, Northeast Tarrant County Morning News | The Honorable Dr. Robert Cluck, Mayor, City of Arlington, 101 W. Abram Street, Arlington, TX 76004-0231 | Oct. 29, 2004 | 485454
Brazos (Case No.: 04-06-1025P) | City of Bryan | Oct. 5, 2004, Oct. 12, 2004, The Eagle | The Honorable Ernie Wentrcek, Mayor, City of Bryan, P.O. Box 1000, Bryan, TX 77805 | Jan. 11, 2005 | 480082
Collin (Case No.: 04-06-1470P) | Unincorporated Areas | Oct. 20, 2004, Oct. 27, 2004, Plano Star Courier | The Honorable Ron Harris, Judge, Collin County, 210 South McDonald Street, #626, Wylie, TX 75098 | Jan. 26, 2005 | 480130
Denton (Case No.: 04-06-1464P) | Town of Double Oak | Nov. 23, 2004, Nov. 30, 2004, Denton Record Chronicle | The Honorable Richard P. Cook, Mayor, Town of Double Oak, 320 Waketon Road, Double Oak, TX 75077 | Mar. 1, 2005 | 481516
El Paso (Case No.: 04-06-1606P) | City of El Paso | Nov. 12, 2004, Nov. 19, 2004, El Paso Times | The Honorable Joe Wardy, Mayor, City of El Paso, 2 Civic Center Plaza, El Paso, TX 79901-1196 | Oct. 29, 2004 | 480214
Fort Bend (Case No.: 04-06-2155P) | Unincorporated Areas | Oct. 20, 2004, Oct. 27, 2004, Fort Bend Star | The Honorable Robert E. Hebert, Judge, Fort Bend County, 301 Jackson Street, Richmond, TX 77469 | Jan. 27, 2005 | 480228
Tarrant (Case No.: 04-06-1741P) | City of Fort Worth | Oct. 6, 2004, Oct. 13, 2004, The Star Telegram | The Honorable Michael Moncrief, Mayor, City of Fort Worth, 1000 Throckmorton Street, Fort Worth, TX 76102 | Sept. 20, 2004 | 480596
Tarrant (Case No.: 04-06-858P) | City of Hurst | Oct. 1, 2004, October 8, 2004, The Star Telegram | The Honorable Richard Ward, Mayor, City of Hurst, 1505 Precinct Line Road, Hurst, TX 76054 | Oct. 7, 2004, | 480601
Collin (Case No.: 04-06-1002P) | City of McKinney | Oct. 7, 2004, Oct. 14, 2004, McKinney Courier-Gazette | The Honorable Bill Whitfield, Mayor, City of McKinney, 222 N. Tennessee Avenue, McKinney, TX 75069 | Jan. 13, 2005 | 480135
Fort Bend (Case No.: 04-06-2155P) | City of Missouri City | Oct. 21, 2004, Oct. 28, 2004, Fort Bend Mirror | The Honorable Allen Owen, Mayor, City of Missouri City, 1522 Texas Parkway, Missouri City, TX 77489 | Jan. 27, 2005 | 480304
Denton (Case No.: 04-06-1180P) | City of Oak Point | Nov. 23, 2004, Nov. 30, 2004, Denton Record Chronicle | The Honorable Duane E. Olson, Mayor, City of Oak Point, 100 Naylor Road, Oak Point, TX 75068 | Nov. 9, 2004 | 481639
Williamson (Case No.: 03-06-1540P) | City of Round Rock | Oct. 12, 2004, Oct. 19, 2004, Round Rock Leader | The honorable Nyle Maxwell, Mayor, City of Round Rock, 221 East Main, Round Rock, TX 78664 | Jan. 19, 2005 | 481048
Williamson (Case No.: 03-06-1540P) | Williamson County | Oct. 13, 2004, Oct. 20, 2004, Williamson County Sun | The Honorable John C. Doerfler, Judge, Williamson County, 710 Main Street, Suite 201, Georgetown, TX 78626 | Jan. 19, 2005 | 481079
Collin (Case No.: 04-06-1470P) | City of Wylie | Oct. 20, 2004, Oct. 27, 2004, The Wylie News | The Honorable John Mondy, Mayor, City of Wylie, 2000 State Highway 78 North, Wylie, TX 75098 | Jan. 26, 2005 | 480759
Wisconsin: Waupaca (Case No.: 04-05-4068P) | City of Clintonville | Sept. 23, 2004, Sept. 30, 2004 Tribune Gazette | The Honorable Richard K. Beggs, Mayor, City of Clintonville, 50 10th Street, Clintonville, WI 54929 | Sept. 17, 2004 | 550494

(Catalog of Federal Domestic Assistance No. 83.100, “Flood Insurance”)
Dated: December 7, 2004.
David I. Maurstad,
Acting Director, Mitigation Division, Emergency Preparedness and Response Directorate.

[FR Doc. 04-27249 Filed 12-10-04; 8:45 am]

BILLING CODE 9110-12-P